DEPARTMENT OF TRANSPORTATION

Federal Aviation Administration

14 CFR Part 39

[Docket No. 2004-NM-37-AD; Amendment 39-14180; AD 2005-14-03]

RIN 2120-AA64

Airworthiness Directives; Empresa Brasileira de Aeronautica S.A. (EMBRAER) Model EMB-145 and EMB-135 Series Airplanes

Correction

In rule document 05-13142 beginning on page 38751 in the issue of Wednesday, July 6, 2005, make the following correction:

§ 39.13 [Corrected]

On page 38752, in the second column, in § 39.13, after amendatory instruction 2., in the first and second lines, ÿ7E

ÿ7E“2005-14 Empresa Brasileira De Aeronautica S.A. (Embraer):”

should read

“2005-14-03 Empresa Brasileira De Aeronautica S.A. (Embraer):”

[FR Doc. C5-13142 Filed 7-20-05; 8:45 am]

BILLING CODE 1505-01-D